DEPARTMENT OF EDUCATION

[CFDA No.: 84.315]

Capacity Building for Traditionally Underserved Populations; Notice Inviting Applications for New Awards for Fiscal Year (FY) 2002

Purpose of Program: The Capacity Building for Traditionally Underserved Populations program is designed to support projects that provide training, technical assistance, or related activities to improve services provided under the Rehabilitation Act of 1973, as amended (Act), especially services provided to individuals from minority backgrounds. Section 21 of the Act speaks to enhancing the capacity and increasing the participation of “minority entities” in programs funded under the Act. “Minority entity” is defined under section 21 as a historically Black college or university, Hispanic-serving institution of higher education, American Indian tribal college or university, or another institution of higher education whose minority student enrollment is at least 50 percent.

For FY 2002 the competition for new awards focuses on projects designed to meet the priorities we reference in the PRIORITIES section of this application notice.

Eligible Applicants: For priorities 1, 2, and 3, minority entities as defined under section 21(b)(5) of the Act as a historically Black college or university, Hispanic-serving institution of higher education, American Indian tribal college or university, or another institution of higher education whose minority student enrollment is at least 50 percent are eligible to apply.

For priority 4, public or nonprofit private agencies, institutions, and organizations, including Indian tribes and institutions of higher education, are eligible to apply.

Applications Available: May 9, 2002

Deadline for Transmittal of Applications: June 24, 2002

Deadline for Intergovernmental Review: August 23, 2002

Estimated Available Funds: $2,558,320

Note: The Administration has requested $1,769,170 for this program for FY 2003. The actual level of funding, if any, depends on final congressional action.

Estimated Range of Awards:

Priority 1—$145,000-$165,000

Priority 2—$175,000-$225,000

Priority 3—$145,000-$165,000

Priority 4—$175,000-$225,000

Estimated Average Size of Awards:

Priority 1—$150,000

Priority 2—$200,000

Priority 3—$150,000

Priority 4—$200,000

Maximum Award: We will reject any application that proposes a budget exceeding $165,000 for Priorities 1 and 3 and a budget exceeding $225,000 for Priorities 2 and 4 for a single budget period of 12 months. The Assistant Secretary for the Office of Special Education and Rehabilitative Services may change the maximum amount through a notice published in the Federal Register.

Estimated Number of Awards:

Priority 1—1

Priority 2—3

Priority 3—4

Priority 4—3

Note: The Department is not bound by any estimates in this notice.

Project Period: Up to 36 months.

Page Limit: Part III of the application, the application narrative, is where you, the applicant, address the selection criteria that reviewers use to evaluate your application. You must limit Part III to the equivalent of no more than 45 pages, using the following standards:

• A “page” is 8.5″ x 11″ on one side only, with 1″ margins at the top, bottom, and both sides.

• Double space (no more than three lines per vertical inch) all text in the application narrative, including titles, headings, footnotes, quotations, references, and captions, as well as all text in charts, tables, figures, and graphs.

• Use a font that is either 12-point or larger or no smaller than 10 pitch (characters per inch).

The page limit does not apply to Part I, the cover sheet, Part II, the budget section, including the narrative budget justification; Part IV, the assurances and certifications; or the one-page abstract, the resumes, the bibliography, or the letters of support. However, you must include all of the application narrative in Part III.

We will reject your application if—

• You apply these standards and exceed the page limit; or

• You apply other standards and exceed the equivalent of the page limit.

Applicable Regulations: The Education Department General Administrative Regulations (EDGAR) in 34 CFR parts 74, 75, 77, 79, 80, 81, 82, 85, and 86.

Note: The regulations in 34 CFR part 79 apply to all applicants except federally recognized Indian tribes.

Note: The regulations in 34 CFR part 86 apply to institutions of higher education only.

Priorities:

This competition focuses on projects designed to meet the priorities in the notice of final priorities for this program, published elsewhere in this issue of the Federal Register.

For FY 2002 the priorities are absolute priorities. Under 34 CFR 75.105(c)(3), we consider only applications that meet one or more of the priorities.

For Applications Contact: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html

Or you may contact ED Pubs at its e-mail address: edpubs@inet.ed.gov

If you request an application from ED Pubs, be sure to identify this competition as follows: CFDA number 84.315.

FOR FURTHER INFORMATION CONTACT: Ellen Chesley, U.S. Department of Education, 400 Maryland Avenue, SW., room 3318, Switzer Building, Washington, DC 20202-2649. Telephone: (202) 205-9481, or via Internet: Ellen.Chesley@ed.gov

If you use a telecommunications device for the deaf (TDD), you may call the Federal Information Relay Service (FIRS) at 1-800-877-8339.

Individuals with disabilities may obtain this document in an alternative format (e.g., Braille, large print, audiotape, or computer diskette) on request to the program contact person listed under FOR FURTHER INFORMATION CONTACT.

Individuals with disabilities may obtain a copy of the application package in an alternative format by contacting the Grants and Contracts Services Team, U.S. Department of Education, 400 Maryland Avenue, SW., room 3317, Switzer Building, Washington, DC 20202-2550. Telephone: (202) 205-8207. If you use a telecommunications device for the deaf (TDD), you may call the Federal Information Relay Service (FIRS) at 1-800-877-8339. However, the Department is not able to reproduce in an alternative format the standard forms included in the application package.

Electronic Access to This Document

You may view this document, as well as all other Department of Education documents published in the Federal Register, in text or Adobe Portable Document Format (PDF) on the Internet at the following site: www.ed.gov/legislation/FedRegister

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html

Program Authority: 29 U.S.C. 718(b).

Dated: May 6, 2002.
Loretta L. Petty,
Acting Assistant Secretary for Special Education and Rehabilitative Services.

[FR Doc. 02-11646 Filed 5-8-02; 8:45 am]

BILLING CODE 4000-01-P